NUCLEAR REGULATORY COMMISSION

[Docket No. 50-62]

Notice and Solicitation of Comments Pursuant to 10 CFR 20.1405 and 10 CFR 50.82(b)(5) Concerning Proposed Action to Decommission the University of Virginia University of Virginia Reactor (UVAR)

Notice is hereby given that the U.S. Nuclear Regulatory Commission (the Commission) has received an application from the University of Virginia dated February 9, 2000, for a license amendment approving its proposed decommissioning plan for the UVAR (Facility License No. R-66) located in Charlottesville, Virginia.

In accordance with 10 CFR 20.1405, the Commission is providing notice and soliciting comments from local and State governments in the vicinity of the site and any Indian Nation or other indigenous people that have treaty or statutory rights that could be affected by the decommissioning. This notice and solicitation of comments is published pursuant to 10 CFR 20.1405, which provides for publication in the Federal Register and in a forum such as local newspapers, letters to State or local organizations, or other appropriate forum, that is readily accessible to individuals in the vicinity of the site. Comments should be provided within 60 days of the date of this notice to Ledyard B. Marsh, Chief, Events Assessment, Generic Communications, and Non-Power Reactors Branch, Mail Stop O12-D1, U.S. Nuclear Regulatory Commission, Washington, DC 20555.

Further, in accordance with 10 CFR 50.82(b)(5), notice is also provided of the Commission's intent to approve the plan by amendment, subject to such conditions and limitations as it deems appropriate and necessary, if the plan demonstrates that decommissioning will be performed in accordance with the regulations in this chapter and will not be inimical to the common defense and security or to the health and safety of the public.

A copy of the application is available for public inspection at the Commission's Public Document Room, the Gelman Building, at 2120 L Street NW, Washington, D.C. 20037. It is also available through http://www.nrc.gov/OPA/reports under “What's New on This Page,” “Decommissioning,” or “Other Documents.”

Dated at Rockville, Maryland, this 27th day of March 2000.
For the Nuclear Regulatory Commission.
Ledyard B. Marsh,
Chief, Events Assessment, Generic Communications, and Non-Power Reactors Branch, Division of Regulatory Improvement Programs Office of Nuclear Reactor Regulation.

[FR Doc. 00-8213 Filed 4-3-00; 8:45 am]

BILLING CODE 7590-01-P